DEPARTMENT OF TRANSPORTATION

Federal Railroad Administration

49 CFR Part 218

[Docket No. FRA-2021-0032, Notice No. 2]

RIN 2130-AC88

Train Crew Size Safety Requirements

AGENCY: Federal Railroad Administration (FRA), Department of Transportation (DOT).

ACTION: Proposed rulemaking; extension of comment period.

SUMMARY: On July 28, 2022, FRA published a notice of proposed rulemaking (NPRM) that would require establishing safe minimum requirements for the size of train crews, depending on the type of operation. FRA is announcing a 67-day extension to the original comment period, which ends on September 26, 2022, and announcing that it will schedule a public hearing (within the extended comment period) in a forthcoming notification to provide interested persons an opportunity to comment on the proposal and to discuss further development of the regulation.

DATES: Written Comments: The comment period for the proposed rule published at 87 FR 45564 on July 28, 2022, is extended. FRA must receive written comments on the proposed rule by December 2, 2022. FRA will consider comments received after that date to the extent practicable.

FRA will publish a supplemental notification in the Federal Register to inform interested parties of the date, time, and how to participate in the public hearing once it is scheduled.

ADDRESSES:

Comments: Comments related to Docket No. FRA-2021-0032 may be submitted by going to https://www.regulations.gov and following the online instructions for submitting comments.

Instructions: All submissions must include the agency name, docket number (FRA-2021-0032), and Regulatory Identification Number (RIN) for this rulemaking (2130-AC88). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Kevin Lewis, Operating Crew Certification Specialist, U.S. Department of Transportation, Federal Railroad Administration, telephone: 918-557-0651, email: kevin.lewis@dot.gov; or Alan H. Nagler, Senior Attorney, U.S. Department of Transportation, Federal Railroad Administration, telephone: 202-493-6038, email: alan.nagler@dot.gov.

SUPPLEMENTARY INFORMATION:

Privacy Act

In accordance with 5 U.S.C. 553(c), DOT solicits comments from the public to better inform its rulemaking process. DOT posts these comments, without edit, to www.regulations.gov, as described in the system of records notice, DOT/ALL-14 FDMS, accessible through https://www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

Issued in Washington, DC.
Amitabha Bose,
Administrator.

[FR Doc. 2022-20476 Filed 9-21-22; 8:45 am]

BILLING CODE 4910-06-P